DEPARTMENT OF COMMERCE

National Oceanic and Atmospheric Administration

50 CFR Part 660

[Docket No. 000504124-0124-01; I.D. 011900B]

RIN 0648-AK11

Fisheries off West Coast States and in the Western Pacific; Pacific Coast Groundfish Fishery; Prohibition on the Use of Set Net Fishing Gear

AGENCY: National Marine Fisheries Service (NMFS), National Oceanic and Atmospheric Administration (NOAA), Commerce.

ACTION: Proposed rule; reopening of the comment period.

SUMMARY: NMFS reopens the public comment period on a proposed rule to prohibit the use of setnet (gillnet and trammel nets) fishing gear to take groundfish species in portions of the exclusive economic zone (EEZ) adjacent to state waters at four areas off California. NMFS is reopening the comment period to ensure that affected fishers are aware of the proposed changes and have an opportunity to provide comments. This action is intended to avoid unnecessary bycatch and is expected to promote consistent conservation of groundfish stocks and species managed by California throughout their range.

DATES: Comments must be received on or before August 3, 2000.

ADDRESSES: Comments on the proposed rule should be sent to Rodney R. McInnis, Acting Regional Administrator, Southwest Region, NMFS, 501 West Ocean Blvd., Suite 4200, Long Beach, CA 90802.

FOR FURTHER INFORMATION CONTACT: Svein Fougner, Sustainable Fisheries Division, Southwest Region, NMFS, 562-980-4040.

SUPPLEMENTARY INFORMATION: The proposed rule that would prohibit the use of set nets in portions of the EEZ was published in the Federal Register on May 19, 2000 (65 FR 31871). Groundfish fisheries on the west coast are managed under the authority of the Fishery Management Plan for Groundfish Fisheries off Washington, Oregon, and California. California has jurisdiction over fishing for groundfish and other species within State waters and, with respect to State registered vessels, in the EEZ off California as long as State regulations are not in conflict with Federal regulations. This action would achieve consistency between regulations governing waters under California's jurisdiction and those of the EEZ. NMFS is reopening the comment period to ensure that affected fishers are aware of the proposed changes and have an opportunity to provide comments.

Authority: 16 U.S.C. 1801 et seq.

Dated: June 29, 2000.
Andrew A. Rosenberg,
Deputy Assistant Administrator for Fisheries, National Marine Fisheries Service.

[FR Doc. 00-16934 Filed 7-3-00; 8:45 am]

BILLING CODE 3510-22-F